DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10 (a)(1)(A) of the Endangered Species Act of 1973, as amended (16 U.S.C. 1531 et seq.).

Permit No. TE-031898

Applicant: Sean Lema, Davis, California

The applicant requests a permit to take (capture and remove from the wild) Ash meadows pupfish (Cyprinodon nevadensis mionectes) in conjunction with research on the environmental influences on reproductive behavior and genetic variation throughout the species' range in California for the purpose of enhancing its survival.

Permit No. TE-031850

Applicant: Gretchen Morse, San Diego, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-031841

Applicant: Laura Cholodenko, Oakland, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-031848

Applicant: Henry Ryan, Laguna Niguel, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-006559

Applicant: Dale Allen Powell, Riverside, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-032535

Applicant: Thomas Edell, San Luis Obispo, California

The applicant requests a permit to take (harass by survey) the southwestern willow flycatcher (Empidonax traillii extrimus) in conjunction with surveys throughout the species' range in California for the purpose of enhancing its survival.

Permit No. TE-814216

Applicant: Mark A. Holmgren, Santa Barbara, California

The permittee requests an amendment to take (locate and monitor nests) the least Bell's vireo (Vireo bellii pusillus) in conjunction with surveys and monitoring activities throughout the species' range in California for the purpose of enhancing its survival.

Permit No. TE-031913

Applicant: Morgan Ball, Santa Barbara, California

The applicant requests a permit to take (harass by survey, locate and monitor nests, capture, mark, band, and release) the southwestern willow flycatcher (Empidonax traillii extimus) and take (locate and monitor nests) the least Bell's vireo (Vireo bellii pusillus) in conjunction with surveys and scientific research through out each species range in California for the purpose of enhancing their survival.

Permit No. TE-781377

Applicant: Jonathan N. Baskin, San Marino, California

The permittee requests an amendment to take (harass by survey, capture and handle) the Mohave tui chub (Gila bicolor mohavensis), Owens tui chub (Gila bicolor snyderi), desert pupfish (Cyprinodon macularius), arroyo toad (Bufo microscaphus californicus), and desert slender salamander (Batrachoseps aridus) in conjunction with presence or absence surveys for the purpose of enhancing their survival throughout each species' range. The permittee would also like to take (capture and handle; collect tissue samples) the California tiger salamander (Ambystoma californiense) in conjunction with presence or absence surveys and genetic research in Santa Barbara County, California for the purpose of enhancing its survival.

DATES: October 18, 2000.

ADDRESSES: Written data or comments should be submitted to the Chief—Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: September 8, 2000.
Rowan W. Gould,
Regional Director, Region 1, Portland, Oregon.

[FR Doc. 00-23857 Filed 9-15-00; 8:45 am]

BILLING CODE 4310-55-P